DEPARTMENT OF EDUCATION

National Advisory Council on Indian Education; Announcement of an Open Public Meeting

AGENCY: National Advisory Council on Indian Education (NACIE), Department of Education.

ACTION: Announcement of an open public meeting.

SUMMARY: This notice sets forth the schedule of an upcoming public meeting conducted by the National Advisory Council on Indian Education (NACIE). Notice of the meeting is required by Section 10(a)(2) of the Federal Advisory Committee Act and is intended to notify the public of its opportunity to attend.

DATES: The NACIE meeting will be held on September 28-29, 2016, 8:30 a.m.-4:00 p.m. each day, Eastern Daylight Saving Time. The meeting will be held at the Residence Inn by Marriott located at 333 E Street SW., Washington, DC 20024. Phone 202-484-8280.

FOR FURTHER INFORMATION CONTACT: Tina Hunter, Designated Federal Official, Office of Elementary and Secondary Education, U.S. Department of Education, 400 Maryland Avenue SW., Washington, DC 20202. Telephone: 202-205-8527. Fax: 202-205-0310.

SUPPLEMENTARY INFORMATION: NACIE's Statutory Authority and Function: NACIE is authorized by Section 7471 of the Elementary and Secondary Education Act of 1965 (ESEA), as amended by the Every Student Succeeds Act (ESSA). NACIE is governed by the provisions of the Federal Advisory Committee Act (FACA), 5 U.S.C. App. 2, which sets forth requirements for the formation and use of advisory committees. NACIE is established within the U.S. Department of Education (Department) to advise the Secretary of Education (Secretary) on the funding and administration (including the development of regulations and administrative policies and practices) of any program over which the Secretary has jurisdiction and that includes Indian children or adults as participants or that may benefit Indian children or adults, including any program established under Title VI, Part A of the ESEA. NACIE makes recommendations to the Secretary for filling the position of Director of Indian Education whenever a vacancy occurs. NACIE submits to the Congress, not later than June 30 of each year, a report on the activities of NACIE that includes recommendations NACIE considers appropriate for the improvement of Federal education programs that include Indian children or adults as participants or that may benefit Indian children or adults, and recommendations concerning the funding of any such program.

Meeting Agenda: The purpose of the meeting is to convene NACIE to conduct the following committee business: (1) Compile information to be included in the 2016 letter to the Secretary; (2) Receive an overview from Department staff regarding Department programs and their impact on Indian children and adults; and (3) Conduct discussions and begin work on the development of a report of accomplishments by NACIE.

Submission of written public comments: Due to the full agenda on both meeting days, there will not be a public comment period at the meeting. However, if you wish to submit written comments related to the NACIE, all written comments must be received by September 21, 2016 at: oese@ed.gov. Please include in the subject line “NACIE Written Comments”. The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the NACIE members.

Access to Records of the Meeting: The Department will post the official report of the meeting on the Office of Elementary and Secondary Education (OESE) Web site at: http://www2.ed.gov/about/offices/list/oese/index.html?src=oc 21 days after the meeting. Pursuant to the FACA, the public may also inspect the materials at the Office of Indian Education, U.S. Department of Education, 400 Maryland Avenue SW., Washington, DC 20202, Monday-Friday, 8:30 a.m. to 5:00 p.m. Eastern Daylight Saving Time or by emailing TribalConsultation@ed.gov or by calling Terrie Nelson on (202) 401-0424 to schedule an appointment.

Reasonable Accommodations: The meeting is accessible to individuals with disabilities. If you will need an auxiliary aid or service to participate in the meeting (e.g., interpreting service, assistive listening device, or materials in an alternate format), notify Brandon Dent on (202) 453-6450 no later than September 21, 2016. Although we will attempt to meet a request received after request due date, we may not be able to make available the requested auxiliary aid or service because of insufficient time to make arrangements.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Ann Whalen,
Delegated the authority to perform the functions and duties of Assistant Secretary for Elementary and Secondary Education.

[FR Doc. 2016-22245 Filed 9-15-16; 8:45 am]

BILLING CODE 4000-01-P